DEPARTMENT OF COMMERCE

International Trade Administration

[A-570-851]

Certain Preserved Mushrooms From the People's Republic of China: Notice of Initiation of Antidumping Duty New Shipper Reviews

AGENCY: Import Administration, International Trade Administration, Department of Commerce.

SUMMARY: The Department of Commerce (the Department) has received requests for new shipper reviews (NSRs) of the antidumping duty order on certain preserved mushrooms from the People's Republic of China (PRC). See Notice of Amendment of Final Determination of Sales at Less Than Fair Value and Antidumping Duty Order: Certain Preserved Mushrooms From the People's Republic of China, 64 FR 8308 (February 19, 1999). In accordance with section 751(a)(2)(B) of the Tariff Act of 1930, as amended (the Act), and 19 CFR 351.214(d), we are initiating antidumping duty NSRs of Guangxi Hengyong Industrial & Commercial Dev. Ltd., (Hengyong) and Zhangzhou Hongda Import & Export Trading Co., Ltd. (Hongda). The period of review (POR) of these NSRs is February 1, 2010 through July 31, 2010.

DATES: Effective Date: October 7, 2010.

FOR FURTHER INFORMATION CONTACT: Fred Baker, Scott Hoefke, or Robert James, AD/CVD Operations, Office 7, Import Administration, International Trade Administration, U.S. Department of Commerce, 14th Street and Constitution Avenue, NW., Washington, DC 20230, telephone: (202) 482-2924, (202) 482-4947, or (202) 482-0649, respectively.

SUPPLEMENTARY INFORMATION:

Background

On February 19, 1999, the Department published the antidumping duty order on certain preserved mushrooms from the PRC. See Notice of Amendment of Final Determination of Sales at Less Than Fair Value and Antidumping Duty Order: Certain Preserved Mushrooms From the People's Republic of China, 64 FR 8308 (February 19, 1999). Thus, the antidumping duty order on certain preserved mushrooms from the PRC has a February anniversary month. On August 31, 2010, the Department received requests for NSRs from Hengyong and Hongda.

In its request for review Hongda identified itself as the exporter of the subject merchandise, and Fujian Haishan Foods Co., Ltd. (Haishan) as the producer. In contrast, Hengyong identified itself as the exporter of the subject merchandise, and its affiliated branch supplier Hengyong Industrial and Commercial Dev. Ltd. Hengxian Food Division (collectively, “Hengyong”) as the producer. The Department determined that both requests contained certain deficiencies and requested that both respondents correct their submissions. See September 23, 2010 letters from Robert James, Program Manager, to Hengyong and Hongda, respectively. In accordance with the Department's requests, Hengyong and Hongda corrected the deficiencies in their initial submissions in revised submissions dated September 24, 2010. For the purpose of initiating these NSRs, the Department determines that Henyong's and Hongda's original submissions were timely filed.

Pursuant to the requirements set forth in section 751(a)(2)(B)(i) of the Act and 19 CFR 351.214(b)(2), Hengyong, Hongda, and Haishan certified that (1) they did not export subject merchandise to the United States during the original period of investigation (POI) (see section 751(a)(2)(B)(i)(I) of the Act and 19 CFR 351.214(b)(2)(i) & (ii)); (2) since the initiation of the investigation they have never been affiliated with any company that exported subject merchandise to the United States during the POI, including those companies not individually examined during the investigation (see section 751(a)(2)(B)(i)(II) of the Act and 19 CFR 351.214(b)(2)(iii)(A)); and (3) their export activities were not controlled by the central government of the PRC (see 19 CFR 351.214(b)(2)(iii)(B)). Additionally, in accordance with 19 CFR 351.214(b)(2)(iv), Hengyong and Hongda submitted documentation establishing the following: (1) The date on which they first shipped subject merchandise to the United States; (2) the volume of their first shipments; and (3) the date of their first sales to unaffiliated customers in the United States. They also certified they had no shipments to the United States during the period subsequent to their first shipments.

Initiation of Reviews

Based on information on the record and in accordance with section 751(a)(2)(B) of the Act and section 351.214(d) of the Department's regulations, we find the requests Hengyong and Hongda submitted meet the statutory and regulatory requirements for initiation of NSRs. See Memoranda to the File through Richard Weible, “Request for AD New Shipper Review: Certain Preserved Mushrooms from the People's Republic of China (A-570-851),” dated September 29, 2010. Accordingly, we are initiating a NSR of the antidumping duty order on certain preserved mushrooms from the PRC manufactured and exported by Hengyong, and a NSR on certain preserved mushrooms from the PRC manufactured by Haishan and exported by Hongda. These reviews cover the period February 1, 2010 through July 31, 2010. We intend to issue the preliminary results of these reviews no later than 180 days after the date on which these reviews are initiated, and the final results within 90 days after the date on which we issue the preliminary results. See section 751(a)(2)(B)(iv) of the Act and 19 CFR 351.214(h)(i).

In cases involving non-market economies, the Department requires that a company seeking to establish eligibility for an antidumping duty rate separate from the country-wide rate provide evidence of de jure and de facto absence of government control over the company's export activities. See, e.g., Wooden Bedroom Furniture from the People's Republic of China: Initiation of Antidumping Duty New Shipper Reviews, 75 FR 10214, 10215 (March 5, 2010). Accordingly, we will issue questionnaires to Hengyong and Hongda that will include a separate rates section.¹ These reviews will proceed if these responses provide sufficient indication that Hengyong and Hongda are not subject to either de jure or de facto government control with respect to their exports of preserved mushrooms. However, if Hengyong and Hongda do not demonstrate eligibility for separate rates, they will be deemed not to have met the requirements of section 751(2)(B)(i) of the Act and 19 CFR 351.214(b)(2)(i), and therefore not separate from the PRC-wide entity. We will therefore rescind the NSRs. See, e.g., Certain Preserved Mushrooms from the People's Republic of China: Notice of Initiation of Antidumping Duty New Shipper Review, 74 FR 15698 (April 7, 2009).

¹ Both companies did provide information regarding their eligibility for separate rates in their requests for review.

We will instruct the CBP to allow, at the option of the importer, the posting, until the completion of the review, of a bond or security in lieu of a cash deposit for certain entries of the subject merchandise produced and exported by Hengyong and for certain entries produced by Haishan and exported by Hongda in accordance with section 751(a)(2)(B)(iii) of the Act and 19 CFR 351.214(e).

Interested parties may submit applications for disclosure under administrative protective order in accordance with 19 CFR 351.305 and 351.306.

These initiations and this notice are issued and published in accordance with section 751(a)(2)(B) of the Act and 19 CFR 351.214 and 351.221(c)(1)(i).

Dated: September 29, 2010.
Susan H. Kuhbach,
Acting Deputy Assistant Secretary for Antidumping and Countervailing Duty Operations.

[FR Doc. 2010-25303 Filed 10-6-10; 8:45 am]

BILLING CODE 3510-DS-P